FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 012139-003.

Agreement Name: ML/MSC Oceania Space Charter Agreement.

Parties: Maersk A/S and Mediterranean Shipping Company S.A.

Filing Party: Wayne Rohde; Cozen O'Connor.

Synopsis: The amendment updates the name of the Maersk entity that is a party to the Agreement.

Proposed Effective Date: 2/14/2020.

Location: https://www2.fmc.gov/FMC.Agreements.Web/Public/AgreementHistory/306.

Agreement No.: 011741-024.

Agreement Name: U.S. Pacific Coast-Oceania Agreement.

Parties: Maersk A/S; Hapag-Lloyd AG; and ANL Singapore Pte. Ltd.

Filing Party: Wayne Rohde; Cozen O'Connor.

Synopsis: The amendment updates the name of the Maersk entity that is a party to the Agreement.

Proposed Effective Date: 2/14/2020.

Location: https://www2.fmc.gov/FMC.Agreements.Web/Public/AgreementHistory/601.

Agreement No.: 012448-002.

Agreement Name: ECUS/ECSA Slot Exchange Agreement.

Parties: Maersk A/S; Hapag-Lloyd AG; and Mediterranean Shipping Company S.A.

Filing Party: Wayne Rohde; Cozen O'Connor.

Synopsis: The amendment updates the name of the Maersk entity that is a party to the Agreement.

Proposed Effective Date: 2/14/2020.

Location: https://www2.fmc.gov/FMC.Agreements.Web/Public/AgreementHistory/1929.

Agreement No.: 011707-018.

Agreement Name: Gulf/South America Discussion Agreement.

Parties: BBC Chartering Carriers GmbH & Co. KG; Industrial Maritime Carriers, LLC; and Seaboard Marine Ltd.

Filing Party: Wayne Rohde; Cozen O'Connor.

Synopsis: The amendment deletes ZEAMARINE Carrier GmbH as a party and replaces it with Industrial Maritime Carriers, L.L.C.

Proposed Effective Date: 4/3/2020.

Location: https://www2.fmc.gov/FMC.Agreements.Web/Public/AgreementHistory/684.

Dated: February 21, 2020.
Rachel Dickon,
Secretary.

[FR Doc. 2020-03882 Filed 2-25-20; 8:45 am]

BILLING CODE 6731-AA-P